POSTAL SERVICE

39 CFR Part 111

Address Correction Notices for Letters and Flats Qualifying for Full-Service Intelligent Mail and Changes to Move Update Standards

AGENCY: Postal Service.™

ACTION: Proposed rule.

SUMMARY: The Postal Service is proposing to revise Mailing Standards of the United States Postal Service, Domestic Mail Manual (DMM®) to change the number of days that mailers may receive additional notices for the same unique change-of-address or nixie record through Full-Service Intelligent Mail® at no charge. The Postal Service also proposes to add new Move Update standards, regarding change-of-address orders.

DATES: We must receive your comments on or before October 21, 2010.

ADDRESSES: Mail or deliver written comments to the Manager, Mailing Standards, U.S. Postal Service, 475 L'Enfant Plaza, SW., Room 4446, Washington, DC 20260-5015. You may inspect and photocopy all written comments at USPS® Headquarters Library, 475 L'Enfant Plaza, SW., 11th Floor N, Washington, DC, between 9 a.m. and 4 p.m., Monday through Friday. Comments containing the name and address of the commenter may be sent by e-mail to: MailingStandards@usps.gov, with a subject line of “Address Correction Notice and Move Update comments.” Faxed comments are not accepted.

FOR FURTHER INFORMATION CONTACT: Jim Wilson at 901-681-4600, or Bill Chatfield at 202-268-7278.

SUPPLEMENTARY INFORMATION: The Postal Service proposes to change the timeframe for providing address correction and nixie notices without charge for First-Class Mail®, Standard Mail®, and Bound Printed Matter (BPM) pieces that are eligible for Full-Service Intelligent Mail prices, and that also meet the applicable standards. Notices would be provided, without charge, for no longer than 95 days after the first notice is made available for a specific change-of-address or nixie notification for eligible Full-Service pieces mailed at First-Class Mail, Standard Mail, or BPM prices. This change will coincide with the current Move Update standard timeframe that applies to First-Class Mail and Standard Mail pieces. The Postal Service would retain the current 60 day timeframe for Periodicals pieces.

This proposed rule also announces that the online publication, Guide to Move Update, is the appropriate source for additional information about the policies and procedures for meeting the Move Update requirements. We describe a policy clarification to indicate that all changes of address, whether filed by customers or postal employees, are subject to Move Update requirements, but temporarily exempt certain types of change of address orders from Move Update verifications.

Address Correction Notices

The Postal Service provides address correction notices, without charge, to mailers participating in Full-Service Intelligent Mail. For Full-Service First-Class Mail eligible pieces, mailers currently receive subsequent notices indefinitely without charge. For Standard Mail and Bound Printed Matter eligible pieces, the first notice for a particular change of address is provided without charge, and subsequent notices are provided without charge for 30 days. This proposed rule would standardize the timeframe at 95 days after the first notice for a specific change of address or nixie notification is provided, during which mailers would obtain subsequent notices without charge for Full-Service First-Class Mail, Standard Mail, and BPM full-service pieces.

Prices for notices provided after this timeframe for eligible full-service pieces would be the prices listed in the Notice 123, Price List under “ADDRESS CORRECTION SERVICE” as “per automated notice issued” for First-Class Mail and Standard Mail automation letters, and prices listed as “per electronic notice issued” for all other eligible full-service pieces.

Guide to Move Update

The online USPS publication Guide to Move Update (available at ribbs.usps.gov) was established to provide general information about each authorized Move Update method. The publication was recently revised to provide more information on the general policies and procedures for complying with the Move Update standards, as well as specific information on the procedures and proper use of the authorized methods available for meeting the Move Update standards. It describes in detail the four primary and the two alternative Move Update methods available for updating mailing lists.

Change-of-Address Orders

The Postal Service clarifies that the Move Update standards are met by updating address records from customer-filed change-of-address (COA) orders and from postal-carrier-supplied COA orders. There are occasions when customers move or allow their PO Box™ service to expire without providing a new address to redirect their mail. In these instances, the customer no longer receives mail at that address, and the postal carrier files either a “Moved Left No Address” (MLNA) or a “Box Closed No Order” (BCNO) COA order. These two types of COAs are included in all of the address change databases the Postal Service maintains. In order to comply with the Move Update standards, mailers must refrain from mailing to these undeliverable addresses once the effective date of the COA is older than 95 days.

The Postal Service understands that some mailers may have difficulty isolating MLNAs and BCNOs in their mailing processes. Therefore, to allow mailers sufficient time to modify their mailing systems to properly handle MLNA and BCNO occurrences, MLNAs and BCNOs with effective dates older than 95 days will, temporarily, not be classified as failures to update a COA by Performance Based Verification (PBV) Move Update verifications. Mailers will have one year from the date of this notice to make needed modifications to their mail processing systems. After the one-year grace period, MLNA/BCNO addresses with effective dates between 95 days and 18 months would be graded by PBV verifications for commercial mailings of First-Class Mail and Standard Mail pieces as failures to update a COA.

Although we are exempt from the notice and comment requirements of the Administrative Procedure Act [5 U.S.C. 553(b), (c)] regarding proposed rulemaking by 39 U.S.C. 410 (a), we invite public comments on the following proposed revisions to Mailing Standards of the United States Postal Service, Domestic Mail Manual (DMM), incorporated by reference in the Code of Federal Regulations. See 39 CFR 111.1.

List of Subjects in 39 CFR Part 111

Administrative practice and procedure, Postal Service.

Accordingly, 39 CFR part 111 is proposed to be amended as follows:

PART 111—[AMENDED]

1. The authority citation for 39 CFR part 111 continues to read as follows:

Authority: 5 U.S.C. 552(a); 13 U.S.C. 301-307; 18 U.S.C. 1692-1737; 39 U.S.C. 101, 401, 403, 404, 414, 416, 3001-3011, 3201-3219, 3403-3406, 3621, 3622, 3626, 3632, 3633, and 5001.

2. Revise the following sections of Mailing Standards of the United States Postal Service, Domestic Mail Manual (DMM), as follows:

Mailing Standards of the United States Postal Service, Domestic Mail Manual (DMM)

* * * * *

200 Commercial Letters and Cards

* * * * *

230 First-Class Mail

233 Prices and Eligibility

* * * * *

3.0 Basic Standards for First-Class Mail Letters

* * * * *

3.5 Move Update Standard

3.5.1 Basic Standards

[Revise the introductory paragraph of 3.5.1 to read as follows:]

The Move Update standard is a means of reducing the number of mailpieces in a mailing that require forwarding or return by the periodic matching of a mailer's address records with change-of-address orders received and maintained by the USPS. For the purposes of this standard, address means a specific address associated with a specific occupant name. The online USPS Guide to Move Update (available at ribbs.usps.gov) contains more detailed information on the procedures and methods for meeting this standard. Addresses subject to the Move Update standard must meet these requirements:

* * * * *

240 Standard Mail

243 Prices and Eligibility

* * * * *

3.0 Basic Standards for Standard Mail Letters

* * * * *

3.9 Move Update Standards

3.9.1 Basic Standards

[Revise the introductory paragraph of 3.9.1 to read as follows:]

The Move Update standard is a means of reducing the number of mailpieces in a mailing that require forwarding or return by the periodic matching of a mailer's address records with change-of-address orders received and maintained by the USPS. For the purposes of this standard, address means a specific address associated with a specific occupant name. The online USPS Guide to Move Update (available at ribbs.usps.gov) contains more detailed information on the procedures and methods for meeting this standard. Addresses subject to the Move Update standard must meet these requirements:

* * * * *

300 Commercial Flats

* * * * *

330 First-Class Mail

333 Prices and Eligibility

* * * * *

3.0 Eligibility Standards for First-Class Mail Flats

* * * * *

3.5 Move Update Standards

3.5.1 Basic Standards

[Revise the introductory paragraph of 3.5.1 to read as follows:]

The Move Update standard is a means of reducing the number of mailpieces in a mailing that require forwarding or return by the periodic matching of a mailer's address records with change-of-address orders received and maintained by the USPS. For the purposes of this standard, address means a specific address associated with a specific occupant name. The online USPS Guide to Move Update (available at ribbs.usps.gov) contains more detailed information on the procedures and methods for meeting this standard. Addresses subject to the Move Update standard must meet these requirements:

* * * * *

340 Standard Mail

343 Prices and Eligibility

* * * * *

3.0 Basic Standards for Standard Mail Flats

* * * * *

3.9 Move Update Standard

3.9.1 Basic Standards

[Revise the introductory paragraph of 3.9.1 to read as follows:]

The Move Update standard is a means of reducing the number of mailpieces in a mailing that require forwarding or return by the periodic matching of a mailer's address records with change-of-address orders received and maintained by the USPS. For the purposes of this standard, address means a specific address associated with a specific occupant name. The online USPS Guide to Move Update (available at ribbs.usps.gov) contains more detailed information on the procedures and methods for meeting this standard. Addresses subject to the Move Update standard must meet these requirements:

* * * * *

400 Commercial Parcels

* * * * *

430 First-Class Mail

433 Prices and Eligibility

* * * * *

3.0 Basic Standards for First-Class Mail Parcels

* * * * *

3.5 Move Update Standard

3.5.1 Basic Standards

[Revise the introductory paragraph of 3.5.1 to read as follows:]

The Move Update standard is a means of reducing the number of mailpieces in a mailing that require forwarding or return by the periodic matching of a mailer's address records with change-of-address orders received and maintained by the USPS. For the purposes of this standard, address means a specific address associated with a specific occupant name. The online USPS Guide to Move Update (available at ribbs.usps.gov) contains more detailed information on the procedures and methods for meeting this standard. Addresses subject to the Move Update standard must meet these requirements:

* * * * *

440 Standard Mail

443 Prices and Eligibility

* * * * *

3.0 Basic Standards for Standard Mail Parcels

* * * * *

3.9 Move Update Standards

3.9.1 Basic Standards

[Revise the introductory paragraph of 3.9.1 to read as follows:]

The Move Update standard is a means of reducing the number of mailpieces in a mailing that require forwarding or return by the periodic matching of a mailer's address records with change-of-address orders received and maintained by the USPS. For the purposes of this standard, address means a specific address associated with a specific occupant name. The online USPS Guide to Move Update (available at ribbs.usps.gov) contains more detailed information on the procedures and methods for meeting this standard. Addresses subject to the Move Update standard must meet these requirements:

* * * * *

700 Special Standards

* * * * *

705 Advanced Preparation and Special Postage Payment Systems

* * * * *

22.0 Full-Service Automation Option

* * * * *

22.4 Additional Standards

* * * * *

22.4.2 Address Correction Notices

[Revise the introductory paragraph of 22.4.2 to read as follows:]

Mailers presenting letters and flats (except for those noted below) that qualify for the full-service Intelligent Mail option will receive address correction notices when the pieces are encoded with Intelligent Mail barcodes with “Address Service Requested” or “Change Service Requested” under standards for the Intelligent Mail barcode and under the following conditions:

* * * * *

c. * * * Address correction notices for mailpieces in full-service mailings are available for:

[Revise the text of items c1 and c3 to read as follows:]

1. First-Class Mail letters and flats, provided at no charge up to 95 days from first notice (printed endorsement not required for letters).

* * * * *

3. Standard Mail letters and flats and BPM flats, provided at no charge up to 95 days from first notice. See Notice 123—Price List for charges after 95 days. Standard Mail and BPM pieces must include a printed on-piece endorsement in addition to encoding the ancillary service request into the Intelligent Mail barcode. See 507.4.2 for additional standards.

* * * * *

We will publish an appropriate amendment to 39 CFR part 111 to reflect these changes if our proposal is adopted.

Stanley F. Mires,
Chief Counsel, Legislative.

[FR Doc. 2010-23578 Filed 9-20-10; 8:45 am]

BILLING CODE 7710-12-P